NATIONAL FOUNDATION ON THE ARTS AND THE HUMANITIES

National Endowment for the Humanities

Meetings of Humanities Panel

AGENCY: National Endowment for the Humanities.

ACTION: Notice of Meetings.

SUMMARY: The National Endowment for the Humanities will hold three meetings of the Humanities Panel, a federal advisory committee, during January, 2016. The purpose of the meetings is for panel review, discussion, evaluation, and recommendation of applications for financial assistance under the National Foundation on the Arts and Humanities Act of 1965.

DATES: See SUPPLEMENTARY INFORMATION section for meeting dates.

ADDRESSES: The meetings will be held at 10 First Street SE., Room LJ220, Washington, DC 20540.

FOR FURTHER INFORMATION CONTACT: Lisette Voyatzis, Committee Management Officer, 400 7th Street SW., Room, 4060, Washington, DC 20506; (202) 606-8322; evoyatzis@neh.gov. Hearing-impaired individuals who prefer to contact us by phone may use NEH's TDD terminal at (202) 606-8282.

SUPPLEMENTARY INFORMATION: Pursuant to section 10(a)(2) of the Federal Advisory Committee Act (5 U.S.C. App.), notice is hereby given of the following meetings:

1. Date: January 21, 2016.

Time: 9:00 a.m. to 5:00 p.m.

This meeting will discuss applications for Kluge Fellowships, submitted to the Division of Research Programs.

2. Date: January 26, 2016.

Time: 9:00 a.m. to 5:00 p.m.

This meeting will discuss applications for Kluge Fellowships, submitted to the Division of Research Programs.

3. Date: January 28, 2016.

Time: 9:00 a.m. to 5:00 p.m.

This meeting will discuss applications for Kluge Fellowships, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: December 2, 2015.
Elizabeth Voyatzis,
Committee Management Officer.

[FR Doc. 2015-30983 Filed 12-8-15; 8:45 am]

BILLING CODE 7536-01-P